DEPARTMENT OF ENERGY

Federal Energy Regulatory Commission

[Docket No. ER01-2541-000, et al.]

Whiting Clean Energy, Inc., et al.; Electric Rate and Corporate Regulation Filings

January 31, 2002.

Take notice that the following filings have been made with the Commission. Any comments should be submitted in accordance with Standard Paragraph E at the end of this notice.

1. Whiting Clean Energy, Inc.

[Docket No. ER01-2541-001]

Take notice that on January 28, 2002, Whiting Clean Energy, Inc. tendered for filing its transaction report for short-term transactions for the fourth quarter of 2001 pursuant to the Commission's April 12, 2001 Letter Order in the above-referenced docket.

Comment Date: February 19, 2002.

2. San Diego Gas & Electric Company

[Docket No. ER01-3074-003]

Take notice that on January 28, 2002, San Diego Gas & Electric Company (SDG&E) tendered for filing its Final Costs and Corrected Tariff sheets in the above-captioned docket. SDG&E's final costs update its December 6, 2001 filing of both final and estimated costs. The corrected tariff sheets reflect a change in the utility-specific high voltage Transmission Access Charge assessed by the California Independent System Operator.

SDG&E states that copies of the amended filing have been served on the service list in dockets ER01-3074-000 and ER01-3074-001.

Comment Date: February 19, 2002.

3. Combined Locks Energy Center, LLC

[Docket No. ER02-346-001]

Take notice that on January 24, 2002, Combined Locks Energy Center, LLC (CLEC), in compliance with the January 8, 2002, letter order of Director Michael C. McLaughlin, Division of Tariffs and Rates—Central in the above-captioned proceeding, filed, with rate schedule designations, an executed service agreement with WPS Energy Services, Inc. (WPS-ESI) under CLEC's market-based rate tariff, FERC Electric Tariff, Original Volume No. 1.

Copies of the filing were served upon WPS-ESI and the Public Service Commission of Wisconsin.

Comment Date: February 14, 2002.

4. EPCOR Power Development, Inc.

[Docket No. ER02-852-000]

Take notice that on January 28, 2002, EPCOR Power Development, Inc. tendered for filing an application for authorization to sell energy, capacity and ancillary services at market-based rates pursuant to section 205 of the Federal Power Act.

Comment Date: February 19, 2002.

5. American Electric Power Service Corporation

[Docket No. ER02-853-000]

Take notice that on January 28, 2002, the American Electric Power Service Corporation (AEPSC) tendered for filing seven (7) Service Agreements which include Service Agreements for new customers and replacement Service Agreements for existing customers under the AEP Companies' Power Sales Tariffs. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies). AEPSC respectfully requests waiver of notice to permit the attached Service Agreements to be made effective on or prior to January 1, 2002.

A copy of the filing was served upon the Parties and the State Utility Regulatory Commissions of Arkansas, Indiana, Kentucky, Louisiana, Michigan, Ohio, Oklahoma, Tennessee, Texas, Virginia and West Virginia.

Comment Date: February 19, 2002.

6. Florida Power & Light Company

[Docket Nos. ER02-854-000]

Take notice that on January 28, 2002, Florida Power & Light Company (FPL) filed with the Federal Energy Regulatory Commission an unexecuted Interconnection and Operation Agreement between FPL and Calpine's Blue Heron Energy Center, LLC (Calpine) that sets forth the terms and conditions governing the interconnection between Calpine's generating project and FPL's transmission system. A copy of this filing has been served on Calpine and the Florida Public Service Commission.

Comment Date: February 19, 2002.

7. EPDC, Inc.

[Docket No. ER02-855-000]

Take notice that on January 28, 2002, EPDC, Inc. tendered for filing an application for authorization to sell energy, capacity and ancillary services at market-based rates pursuant to section 205 of the Federal Power Act.

Comment Date: February 19, 20002.

8. The Dayton Power and Light Company

[Docket No. ER02-856-000]

Take notice that on January 28, 2002 The Dayton Power and Light Company (Dayton) submitted a service agreement establishing H.Q. Energy Services (US) Inc. (HQUS) as a customer under the terms of Dayton's FERC Electric Tariff, Original Volume No. 10.

Dayton requests an effective date of one day subsequent to this filing for the service agreements. Accordingly, Dayton requests waiver of the Commission's notice requirements. Copies of this filing were served upon HQUS and the Public Utilities Commission of Ohio.

Comment Date: February 19, 2002.

9. Fitchburg Gas and Electric Light Company

[Docket No. ER02-857-000]

Take notice that on January 28, 2002 Fitchburg Gas and Electric Light Company (Fitchburg) filed a service agreement with Great Bay Power Corporation for service under Fitchburg's Market-Based Power Sales Tariff. This Tariff was accepted for filing by the Commission on September 25, 1997, in Docket No. ER97-2463-000. Fitchburg requests an effective date of January 15, 2002.

Comment Date: February 19, 2002.

10. Wolverine Power Supply Cooperative, Inc.

[Docket No. ER02-858-000]

Take notice that on January 28, 2002, Wolverine Power Supply Cooperative, Inc. tendered for filing an executed Service Agreement for Network Integration Transmission Service with Great Lakes Energy and an executed Network Operating Agreement with Great Lakes Energy under its Open Access Transmission Tariff. Wolverine requests an effective date of January 2, 2002.

Wolverine states that a copy of this filing has been served upon Great Lakes Energy and the Michigan Public Service Commission.

Comment Date: February 19, 2002.

11. Wolverine Power Supply Cooperative, Inc.

[Docket No. ER02-859-000]

Take notice that on January 28, 2002, Wolverine Power Supply Cooperative, Inc. tendered for filing an executed Market-Based Power Sales Agreement with Great Lakes Energy under its Market-Based Power Sales Tariff. Wolverine requests an effective date of January 2, 2002.

Wolverine states that a copy of this filing has been served upon Great Lakes Energy and the Michigan Public Service Commission.

Comment Date: February 19, 2002.

12. Arizona Public Service Company

[Docket No. ER02-860-000]

Take notice that on January 28, 2002, Arizona Public Service Company (APS or Company) filed with the Federal Energy Regulatory Commission (Commission) a Notice of Cancellation of the Service Agreement No. 202 under FERC Electric Tariff, Tenth Revised Volume No. 2 effective date of October 9, 2001, between APS and Ak Chin Electric Utility Authority.

Comment Date: February 19, 2002.

13. Arizona Public Service Company

[Docket No. ER02-861-000]

Take notice that on January 28, 2002, Arizona Public Service Company (APS) tendered for filing a revised Service Agreement to provide Firm Point-to-Point Transmission Service to Ak Chin Electric Utility Authority (AkChin) under APS” Open Access Transmission Tariff.

A copy of this filing has been served on Ak Chin and the Arizona Corporation Commission.

Comment Date: February 19, 2002.

14. Entergy Power Ventures, L.P.

[Docket No. ER02-862-000]

Take notice that on January 28, 2002, Entergy Power Ventures, L.P. tendered for filing an application for authorization to sell energy, capacity and ancillary services at market-based rates pursuant to section 205 of the Federal Power Act. Copies of this filing have been served on the Arkansas Public Service Commission, Mississippi Public Service Commission, Louisiana Public Service Commission, Texas Public Utility Commission, and the Council of the City of New Orleans.

Comment Date: February 19, 2002.

15. Midwest Independent Transmission System Operator, Inc.

[Docket No. ER02-863-000]

Take notice that on January 28, 2002, pursuant to Section 205 of the Federal Power Act and Section 35.16 of the Commission's regulations, 18 CFR 35.16, the Midwest Independent Transmission System Operator, Inc. (Midwest ISO) submitted for filing a Notice of Succession for certain Transmission Service Agreements and Network Transmission Service and Operating Agreements held by the Alliant Energy Corporate Services, Inc. (Alliant).

Copies of this filing were sent to all applicable customers under the Alliant Open Access Transmission Tariff.

Comment Date: February 19, 2002.

16. Arizona Public Service Company

[Docket No. ER02-864-000]

Take notice that on January 28, 2002, Arizona Public Service Company (APS) tendered for filing a revisions to its Open Access Transmission Tariff (OATT) in order to conform with Rule 614, clean up typographical errors, and clarify some language.

APS requests an effective date of April 1, 2002.

A copy of this filing has been served on the Arizona Corporation Commission. Copies of the filing can be viewed on APS' OASIS Web site, www.azpsoasis.com.

Comment Date: February 19, 2002.

17. Wolverine Power Supply Cooperative, Inc.

[Docket No. ER02-865-000]

Take notice that on January 29, 2002, Wolverine Power Supply Cooperative, Inc. tendered for filing an Executed Wholesale Power Sales Enabling Agreement Between Wolverine Power Supply Cooperative, Inc., and Wolverine Power Marketing Cooperative, Inc., including an incorporated and executed Term Sheet. Wolverine requests an effective date of January 1, 2002.

Wolverine states that a copy of this filing has been served upon Wolverine Power Marketing Cooperative, Inc. and the Michigan Public Service Commission.

Comment Date: February 19, 2002.

18. Michigan Electric Transmission Company

[Docket No. ER02-866-000]

Take notice that on January 28, 2002, Michigan Electric Transmission Company (Michigan Transco) tendered for filing executed Service Agreements for Firm and Non-Firm Point-to-Point Transmission Service with Consumers Energy Company (Customer) pursuant to the Joint Open Access Transmission Service Tariff filed on February 22, 2001 by Michigan Transco and International Transmission Company (ITC). The Service Agreements being filed are Nos. 136 and 137 under that tariff.

Michigan Transco is requesting an effective date of January 1, 2002 for the Agreements.

Copies of the filed agreements were served upon the Michigan Public Service Commission, ITC and the customer.

Comment Date: February 19, 2002.

19. Michigan Electric Transmission Company

[Docket No. ER02-867-000]

Take notice that on January 28, 2002 Michigan Electric Transmission Company (METC) tendered for filing a Letter Agreement with Consumers Energy Company (Generator), dated December 31, 2001, (Agreement). The agreement is meant to enable METC to begin engineering and other preliminary work associated with upgrading METC's transmission system to accommodate an increase in capacity at an existing generating plant operated by Generator.

METC requested that the Agreement be allowed to become effective December 31, 2001.

Copies of the filing were served upon Generator and the Michigan Public Service Commission.

Comment Date: February 19, 2002.

20. Michigan Electric Transmission Company

[Docket No. ER02-868-000]

Take notice that on January 28, 2002, Michigan Electric Transmission Company (METC) tendered for filing executed Service Agreements for Firm and Non-Firm Point-to-Point Transmission Service with Michigan Cooperative Coordinated Pool (Customer) whose members are The Michigan Public Power Agency and Wolverine Power Supply Cooperative, Inc. pursuant to the Joint Open Access Transmission Service Tariff filed on February 22, 2001 by Michigan Transco and International Transmission Company (ITC). The Service Agreement being filed is No. 135 under that tariff.

METC is requesting an effective date of January 1, 2002 for the Agreement.

Copies of the filed agreements were served upon the Michigan Public Service Commission, ITC and the Customer.

Comment Date: February 19, 2002.

21. Great Bay Power Corporation

[Docket No. ER02-869-000]

Take notice that on January 29, 2002, Great Bay Power Corporation (Great Bay) tendered for filing with the Federal Energy Regulatory Commission (Commission) a service agreement between Indeck Pepperell Power Associates and Great Bay for service under Great Bay's revised Market-Based Rate Power Sales Tariff Volume No. 2 (Tariff). This Tariff was accepted for filing by the Commission on May 31, 2000, in Docket No. ER00-2211-000. The service agreement is proposed to be effective February 1, 2002.

Comment Date: February 19, 2002.

22. Southwestern Electric Power Company

[Docket No. ER02-870-000]

Take notice that on January 29, 2002, Southwestern Electric Power Company (SWEPCO) filed two executed agreements between SWEPCO and Northeast Texas Electric Cooperative, Inc. (NTEC): a long-term Power Purchase and Sale Agreement with a Confirmation Letter Agreement (in redacted and non-redacted form) as a service agreement under SWEPCO's Market-Based Rate Tariff and a Scheduling Agent Agreement.

SWEPCO seeks an effective date of January 1, 2002 for the two agreements and, accordingly, seeks waiver of the Commission's notice requirements. Copies of the filing have been served on NTEC and on the Public Utility Commission of Texas.

Comment Date: February 19, 2002.

23. Midwest Independent Transmission System Operator, Inc.

[Docket No. ER02-871-000]

Take notice that on January 29, 2002, the Midwest Independent Transmission System Operator, Inc. (the Midwest ISO) tendered for filing information regarding the recent developments in the Midwest ISO's phased initiation of jurisdictional service to commence as of February 1, 2002 and redlined and clean versions of the Midwest ISO Open Access Transmission Tariff (OATT), FERC Electric Tariff, First Revised Volume No. 1, regarding Schedules 7, 8 and 9, Attachments J and K and Schedule 10-B.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: February 19, 2002.

24. AES Ironwood, L.L.C.

[Docket No. ER02-872-000]

Take notice that on January 29, 2002, AES Ironwood, L.L.C (AES Ironwood) filed a long-term power sales agreement between AES Ironwood and Williams Energy Marketing & Trading Company (the Agreement). Confidential treatment of the Agreement, pursuant to 18 CFR 385.112 (2000), has been requested.

Comment Date: February 19, 2002.

25. MDU Resources Group, Inc.

[Docket No. ES02-20-000]

Take notice that on January 18, 2002, MDU Resources Group, Inc. (MDU Resources) submitted an application pursuant to section 204 of the Federal Power Act to issue up to 100,000 shares of common stock, par value $1.00 per share, to be issued from time to time in connection with the MDU Resources Group, Inc. Group Genius Innovation Plan.

MDU Resources also requests a waiver of the competitive bidding and negotiated placement requirements at 18 CFR 34.2.

Comment Date: February 21, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-2815 Filed 2-5-02; 8:45 am]

BILLING CODE 6717-01-P